NUCLEAR REGULATORY COMMISSION

Advisory Committee on Reactor Safeguards Subcommittee Meeting on Safeguards and Security; Notice of Meeting

For the closed meeting of the ACRS Subcommittee on Safeguards and Security scheduled for February 21, 2003, starting time has been changed to 8:30 a.m. instead of 1 p.m. in the NRC Auditorium, 11545 Rockville Pike, Rockville, Maryland.

Notice of this meeting was published in the Federal Register on Tuesday, February 4, 2003 (68 FR 5667). All other items pertaining to this meeting remain the same as previously published.

Further information contact: Dr. Richard P. Savio (telephone 301/415-7363) between 7:30 a.m. and 4:15 p.m. (ET).

Dated: February 5, 2003.
Sher Bahadur,
Associate Director for Technical Support, ACRS/ACNW.

[FR Doc. 03-3483 Filed 2-11-03; 8:45 am]

BILLING CODE 7590-01-P